DEPARTMENT OF EDUCATION

Office of Special Education and Rehabilitative Services; Overview Information; Technical Assistance and Dissemination To Improve Services and Results for Children With Disabilities—Secondary Transition Technical Assistance Center; Notice Inviting Applications for New Awards for Fiscal Year (FY) 2005

Catalog of Federal Domestic Assistance (CFDA) Number: 84.326J.

Dates: Applications Available: March 9, 2005.

Deadline for Transmittal of Applications: April 22, 2005.

Deadline for Intergovernmental Review: June 21, 2005.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: $5,200,000.

Maximum Award: The Secretary does not intend to fund an application that proposes a budget exceeding $800,000 for a single budget period of 12 months for year one of the project period, and $1,100,000 for a single budget period of 12 months for years two through five of the project period.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals With Disabilities Education Act (IDEA)).

Absolute Priority: For FY 2005 this priority is an absolute priority. Under 34 CFR 75.105(c)(3), we consider only applications that meet this priority.

This priority is:

Technical Assistance and Dissemination to Improve Services and Results for Children With Disabilities—Secondary Transition Technical Assistance Center

Background

The secondary transition of students with disabilities is a complex process for youth, their families, and school personnel. IDEA requires transition planning for students at age 16, including a description of their postsecondary goals and needed transition services in their Individualized Education Programs. Adding to the complexity, transition planning and services require a multi-agency approach to address the multiple needs of youth with disabilities as they move from high school to further education, employment, and where appropriate, independent living and adult services.

Although recent findings of the National Longitudinal Transition Study-2 (2004) and data from States' Annual Performance Reports indicate that the experiences of students with disabilities have significantly improved over the past decade, students in some disability categories, such as emotional disturbance, continue to experience poor academic and social outcomes. The U.S. Bureau of Labor Statistics indicates that in 2002, only 31 percent of civilian non-institutionalized youth with disabilities, ages 18-24, were employed, compared to 85 percent of those without a disability. More extensive efforts, therefore, are needed to improve transitions from high school to postsecondary education, employment, independent living, and adult services. Efforts must begin in the early years of schooling to help students make a successful transition to meaningful employment and financial independence (Center on Education Policy, 2002). To ensure full implementation of IDEA and to help youth with disabilities and their families achieve desired postschool outcomes, the Secondary Transition Technical Assistance Center (Center) will help States build capacity to support and improve transition planning, services, and outcomes for youth with disabilities.

This Center will disseminate information and provide technical assistance on research-based practices as identified by sources such as the What Works Clearinghouse (WWC) (http://www.whatworks.ed.gov) with an emphasis on building and sustaining State-level infrastructures of support and building district-level demonstrations of effective transition methods for youth with disabilities. The goal of this Center is to promote efficient and effective large-scale implementation and sustainability of research-based interventions and models.

Priority: This priority supports the improvement of transition planning, services, and outcomes for youth with disabilities through a center that will focus on disseminating information and providing technical assistance. The Center's planning activities must include, but are not limited to, the following:

(a) Develop a strategic plan for technical assistance and dissemination in the first two months after award. This plan must be submitted to the Office of Special Education Programs (OSEP) for approval and must be updated and approved annually. The plan must identify each activity necessary to advance the implementation of transition-related actions in the States and demonstrate the strategic relationship of these actions to improved outcomes for youth with disabilities.

(b) Meet with the OSEP project officer and other appropriate Federal staff in Washington, DC within the first two months of the project to clarify project activities and further develop the strategic plan.

The Center's knowledge development activities must include, but are not limited to, the following:

(a) Conduct an analysis of IDEA Part B State Annual Performance Reports and other sources of information to determine the current status of transition planning strategies and identify any practices and strategies that support improved performance or create barriers.

(b) Identify effective and promising practices that improve transition planning, services, and outcomes for youth with disabilities by consulting sources such as the WWC, by commissioning the WWC to conduct reviews of relevant research if such reviews have not already been done, and, if necessary, by conducting its own reviews of research studies using standards consistent with those of WWC. The Center must consult with other appropriate technical assistance providers across the Department of Education and other federal agencies to incorporate effective strategies for improving the performance of students with disabilities in broader improvement efforts. The Center must also work to ensure that its efforts are coordinated with other reform/school improvement initiatives at the district and local school level.

The Center's technical assistance and dissemination activities must include, but are not limited to, the following:

(a) Maintain, in collaboration with the proposed new Center on Access to the General Education Curriculum for High School Students with Disabilities, a user-friendly Web site with relevant information and documents in a form that meets a government or industry-recognized standard for accessibility.

(b) Work directly with States and a limited number of school districts, selected in collaboration with the Center on Access to the General Education Curriculum for High School Students with Disabilities, to: (1) Improve integrated and systemic implementation of interventions, such as self-determination curriculum and career development activities, and strategies, such as concurrent enrollment, mentorships, internships, culturally sensitive approaches, and combined funding streams; (2) establish and maintain an evaluation system based on a standard protocol to measure progress of implementation in States; and (3) produce reports on trends and patterns and other pertinent topics as requested by OSEP.

(c) Provide technical assistance on effective systems of support.

(d) Foster integrated approaches to transition planning and services.

(e) Provide leadership and other technical assistance activities regarding research-based transition strategies and supports.

(f) Develop and implement a plan for building a cadre of trainers through regional capacity building institutes and other meetings as requested by OSEP. At a minimum, the Center must hold trainer institutes every year of the project.

(g) Prepare and disseminate reports and documents on secondary transition interventions, strategies, and supports including publications in peer-reviewed journals.

(h) Develop and apply strategies for the dissemination of information to State-specific audiences including students, teachers, rehabilitation counselors, families, administrators, policymakers, and researchers. Such strategies must involve collaboration with other technical assistance providers, organizations, and agencies.

(i) Develop partnerships with relevant programs, agencies, and organizations to assist with implementing the goals of the New Freedom Initiative (NFI) and promoting equal access to full participation in American society. (See the NFI at the following Web site: http://www.hhs.gov/newfreedom/eo13217.html) Partners are not limited to but must include a minimum of the following entities, national teacher organizations, school administrators, teacher trainers, guidance counselors, parent and disability organizations, national postsecondary support organizations, business coalitions, and key Federal agencies, including the Rehabilitation Services Administration, the National Institute on Disability and Rehabilitation Research, the Department of Labor, and other agencies that work to improve access to public accommodations, commercial facilities, information technology, telecommunications services, and housing.

(j) Submit for approval a proposal describing the content and purpose of any new paper or electronic product, prior to its development, to the document review board of OSEP's Dissemination Center.

(k) Provide OSEP-specified technical assistance to States. This effort must include participation in: (1) Collaborative Web-based technical assistance activities; (2) OSEP-sponsored Communities of Practice; and (3) direct technical assistance to OSEP-specified States through partnerships among OSEP, other centers, and selected States. Staff time and project resources dedicated to provide technical assistance to OSEP-specified States will be negotiated with OSEP as part of the cooperative agreement within 30 days of the annual project continuation award (Technical assistance to OSEP-specified States averages approximately $40,000 per year.)

The Center must also—

(a) Maintain communication with the OSEP project officer through monthly phone conversations and e-mail communication as needed. The Center must submit annual performance reports and provide additional written materials as needed for the OSEP project officer to monitor the Center's work.

(b) Establish, maintain, and meet at least annually with an advisory committee consisting of individuals with disabilities, parents, educators, researchers, and other appropriate individuals to review and advise on the Center's activities and plans.

(c) Maintain communication and collaboration with other relevant OSERS-funded projects.

(g) Fund, as project assistants, two doctoral students per year who have concentrations in special education, educational leadership, rehabilitation, or other relevant, transition-related areas.

(h) Conduct evaluations of its specific activities and of the overall impact of its work. The Center must report its evaluation findings annually to the OSEP project officer.

(i) Budget for annual attendance at two-day Technical Assistance Project Director's meeting and at least two one-day planning meetings in Washington, DC. The Center must also budget to attend three one-day meetings such as Department briefings, Department-sponsored conferences, and other OSEP-requested activities.

Fourth and Fifth Years of Project

In deciding whether to continue this project for the fourth and fifth years, the Secretary will consider the requirements of 34 CFR 75.253(a), and in addition—

(a) The recommendation of a review team consisting of experts selected by the Secretary which will conduct its review in Washington, DC during the last half of the project's second year. Projects must budget for travel expenses associated with this one-day intensive review;

(b) The timeliness and effectiveness with which all requirements of the negotiated cooperative agreement have been or are being met by the Center; and

(c) Evidence of the degree to which the Center's activities have contributed to a changed practice and improved transition outcomes for youth with disabilities.

Waiver of Proposed Rulemaking

Under the Administrative Procedure Act (APA) (5 U.S.C. 553) the Department generally offers interested parties the opportunity to comment on a proposed priority. However, section 681(d) of IDEA makes the public comment requirements of the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $5,200,000.

Maximum Award: The Secretary does not intend to fund an application that proposes a budget exceeding $800,000 for a single budget period of 12 months for year one of the project period, and $1,100,000 for a single budget period of 12 months for years two through five of the project period.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address To Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA Number 84.326J.

Individuals with disabilities may obtain a copy of the application package in an alternative format (e.g., Braille, large print, audiotape, or computer diskette) by contacting the program contact person listed under FOR FURTHER INFORMATION CONTACT in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times: Applications Available: March 9, 2005.

Deadline for Transmittal of Applications: April 22, 2005.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: June 21, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new governmentwide Grants.gov Apply site in FY 2005. Secondary Transition Technical Assistance Center—CFDA Number 84.326J is one of the competitions included in this project.

If you choose to submit your application electronically, you must use the Grants.gov Apply site (Grants.gov). Through this site, you will be able to download a copy of the application package, complete it offline, and then upload and submit your application. You may not e-mail an electronic copy of a grant application to us. We request your participation in Grants.gov.

You may access the electronic grant application for the Secondary Transition Technical Assistance Center—CFDA Number 84.326J competition at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• If you experience technical difficulties on the application deadline date and are unable to meet the 4:30 p.m., Washington, DC time, deadline, print out your application and follow the instructions in this notice for the submission of paper applications by mail or hand delivery.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you submit your application in paper format.

• You may submit all documents electronically, including all information typically included on the Application for Federal Education Assistance (ED 424), Budget Information—Non-Construction Programs (ED 524), and all necessary assurances and certifications. Any narrative sections of your application should be attached as files in a .DOC (document), .RTF (rich text) or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326J), 400 Maryland Avenue, SW., Washington, DC 20202-4260. or

By mail through a commercial carrier: U.S. Department of Education, Application Control Center “ Stop 4260, Attention: (CFDA Number 84.326J), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326J), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 of EDGAR and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technical Assistance to Improve Services and Results for Children with Disabilities program. The measures will focus on: the extent to which projects provide high quality products and services, the relevance of project products and services to educational and early intervention policy and practice, and the use of products and services to improve educational and early intervention policy and practice.

Once the measures are developed, we will notify grantees if they will be required to provide any information related to these measures.

Grantees will also be required to report information on their projects' performance in annual reports to the Department (34 CFR 75.590).

VII. Agency Contact

For Further Information Contact: Marlene Simon-Burroughs, U.S. Department of Education, 400 Maryland Avenue, SW., room 4151, Potomac Center Plaza, Washington, DC 20202-2550. Telephone: (202) 245-7525.

If you use a telecommunications device for the deaf (TDD), you may call the Federal Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 2, 2005.
John H. Hager,
Assistant Secretary for Special Education and Rehabilitative Services.

[FR Doc. 05-4442 Filed 3-7-05; 8:45 am]

BILLING CODE 4000-01-P